DEPARTMENT OF HOUSING AND URBAN DEVELOPMENT

[Docket No. FR-5217-N-03]

Notice of Regulatory Waiver Requests Granted for the Third Quarter of Calendar Year 2008

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2008, and ending on September 30, 2008.

FOR FURTHER INFORMATION CONTACT: For general information about this notice, contact Aaron Santa Anna, Assistant General Counsel for Regulations, Office of General Counsel, Department of Housing and Urban Development, 451 7th Street, SW., Room 10276, Washington, DC 20410-0500, telephone number 202-708-3055 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the third quarter of calendar year 2008.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2008, through September 30, 2008. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2008) before the next report is published (the fourth quarter of calendar year 2008), HUD will include any additional waivers granted for the third quarter in the next report.

Accordingly, information about approved waiver requests pertaining to HUD regulations is provided in the Appendix that follows this notice.

Dated: December 3, 2008.
Michael C. Flynn,
Acting General Counsel.

Appendix

Listing of Waivers of Regulatory Requirements Granted by Offices of the Department of Housing and Urban Development July 1, 2008 Through September 30, 2008

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 51.202(a).

Project/Activity: Mississippi Development Authority requested a wavier of the regulation 24 CFR part 51, subpart C, for the Small Rental Property Assistance Program and the Long Term Workforce Housing Program. These programs provide Community Development Block Grant disaster assistance for projects located in Hancock, Harrison, Jackson, and Pearl River counties in the Gulf Coast region in Mississippi.

Nature of Requirement: HUD's regulations in 24 CFR part 51, subpart C, specifically at § 51.202(a) do not allow approval of an application for assistance for a proposed project located at less than the acceptable separation distance from a hazard, as defined in § 51.201, unless appropriate mitigating measures, as defined in § 51.205 are implemented, or unless mitigating measures are already in place. The purpose of this regulation is to establish safety standards which can be used as a basis for calculating acceptable separation distance for HUD-assisted projects from specific, stationary, hazardous operations which store, handle, or process hazardous substances.

Granted By: Susan D. Peppler, Assistant Secretary for Community Planning and Development

Date Granted: August 27, 2008.

Reason Waived: Mississippi Development Authority advised HUD that of the 1,200 applicants for the Small Rental Property Assistance Program (SRAP), about 750 applications would require mitigation of one or more adjacent residential propane tanks because the HUD assisted project is located at less than the acceptable separation distance pursuant to HUD's regulations at 24 CFR part 51, subpart C. MDA estimated that there are approximately 10,357 above-ground storage tanks along the Gulf Coast. The majority of residential propane tanks were 250 gallons; however, there were instances where the residential propane tank was greater than 250 gallons. The acceptable separation distance (for blast overpressure) for a 250 gallon tank of propane is 135 feet.

Mitigation measures included constructing a barrier to surround the tank or building a structure on the HUD property site to shield the proposed project from the hazard. The residential propane tanks that impact the HUD assisted project are located off-site on adjacent properties. In the Mississippi Gulf Coast, generally the residential propane tanks are leased from the propane distributor and the tanks are aboveground (not buried). The average SRAP grant is $30,000. For these reasons, mitigating residential propane tanks on adjacent properties is not practical or economically feasible.

The National Fire Protection Association (NFPA), through its development of codes and standards, is an authoritative source on public safety regarding fire and other hazards. Its mission is to reduce the burdens of fire and hazards by providing consensus codes and standards, research, training and education. As an authoritative source on public safety, NFPA developed NFPA Code 58 that established codes and standards used by the propane industry and operators regarding storage and handling of liquefied petroleum gases (LPG). NFPA Code 58 is intended to provide the industry with a framework of operational information and standards that, if followed, will minimize the probability of risk and accidents. Most states, including Mississippi, have adopted and integrated the NFPA Code 58 into their state and local codes for LPG operations. A recent study by NFPA on natural gas and LP-gas home structure fires confirms that one of the reasons why LP-gas home structure fires have fallen 83% nationally is due to increased awareness from following NFPA Code 58 Section 2-2.1.4 specifically. It is the responsibility of the container's owner to follow NFPA Code 58 to see that proper maintenance and re-qualification is accomplished on liquid petroleum gas containers, in order to minimize the probability of accidents and risks to human populations and structures.

It is also the responsibility of the propane marketer to follow NFPA Code 58 and verify that a container is fit for service before filling it. NFPA Code 58 requires that containers be designed, fabricated, tested and marked (or stamped) in accordance with the Regulations of the U.S. Department of Transportation (DOT), the American Society of Mechanical Engineers (ASME) Boiler and Pressure Vessel Code, “Rules for the Construction of Unfired Pressure Vessels”, Section VIII, or the American Petroleum Institute (API)-ASME Code for Unfired Vessels for Petroleum Liquids and Gases applicable at the date of manufacture of the container.

The waiver was granted based on the following findings: the Small Rental Property Assistance Program and Long Term Workforce Housing Program will further the objective of providing much needed housing units in established residential communities affected by hurricane Katrina; there are significant economic and practical difficulties in mitigating the off-site residential propane tanks located on adjacent properties; the particular facts in Mississippi as described above suggest that any danger to HUD sites is minimal; and a site visit conducted by HUD staff verified the facts and examined a sample of the proposed sites also suggested any danger to HUD sites is minimal.

This waiver does not apply to proposed HUD-assisted propane containers of volume capacities higher than 250 gallons and applicants for HUD funding assistance for such projects are required to be in compliance with the requirements of 24 CFR part 51, subpart C. The waiver was granted for residential propane tanks of 250 gallons or less located off-site on adjacent properties, provided that these residential propane tanks are designed, fabricated, tested and marked (or stamped) in accordance with the regulations of the U.S. Department of Transportation (DOT), the American Society of Mechanical Engineers (ASME) Boiler and Pressure Vessel Code, “Rules for the Construction of Unfired Pressure Vessels,” Section VIII, or the American Petroleum Institute (API)-ASME Code for Unfired Vessels for Petroleum Liquids and Gases applicable at the date of manufacture of the container. This waiver does not apply to containers that are required to be removed from service because they have passed their useful life due to corrosion, mechanical damage, or lack of a nameplate.

Contact: Danielle Schopp, Office of Environment and Energy, Office of Community Planning and Development, Department of Housing and Urban Development, 451 7th Street, SW., Room 7250, Washington, DC 20410-7000, telephone number 202-402-4442.

• Regulation: 24 CFR 58.22(a)

Project/Activity: Catholic Community Services of Utah submitted an application for building rehabilitation, operating costs and supportive services for St. Mary's/Marillac House in Salt Lake City, Utah. The project provides 70 treatment beds, office and treatment spaces to accommodate clients and 47 staff members and site improvements, including outdoor playground areas. Catholic Community Services committed nonfederal funds by executing a construction contract, an action that limits the choice of reasonable alternatives, before receiving an approved Request for Release of Funds.

Nature of Requirement: HUD's regulation at 24 CFR 58.22(a) requires that an environmental review be performed and a request for release of funds be completed and certified prior to the commitment of non-HUD funds to a project using HUD funds.

Granted By: Susan D. Peppler, Assistant Secretary for Community Planning and Development.

Date Granted: August 1, 2008.

Reason Waived: The waiver was granted based on the following findings: the project furthered the objective of providing much needed housing for homeless individuals and families; no HUD funds were committed, and an environmental assessment and several site visits by HUD staff concluded that the granting of the waiver would not result in any adverse environmental impact.

Contact: Danielle Schopp, Office of Environment and Energy, Office of Community Planning and Development, Department of Housing and Urban Development, 451 7th Street, SW., Room 7250, Washington, DC 20410-7000, telephone number 202-402-4442.

• Regulation: 24 CFR 91.115(c)(2).

Project/Activity: The State of Iowa to waive 24 CFR 91.115(c)(2).

Nature of Requirement: The provisions of 24 CFR 91.115(c)(2) require that a minimum of 30 days be allowed for public comment following a substantial amendment to the Consolidated Plan.

Granted By: Susan D. Peppler, Assistant Secretary for Community Planning and Development.

Date Granted: August 22, 2008.

Reason Waived: A reduced public comment period allowed the State to implement the amendment to the 2008 Method of Distribution (MOD) and annual action plan expeditiously and enabled the State to provide assistance to affected units of general local governments for disaster recovery in a timely manner. The State's proposed amendment to reallocate recaptured funds or uncommitted funds for their current program year will provide the State with additional flexibility to address urgent needs in the transition period until supplemental funding becomes available.

Contact: Diane Lobasso, Director, State and Small Cities Division, Office of Block Grant Assistance, Office of Community Planning and Development, Department of Housing and Urban Development, Room 7184, 451 7th Street, SW., Washington, DC 20410-7000, telephone number 202-708-1322.

• Regulation: 24 CFR 91.115(i).

Project/Activity: The State of Iowa Community Development Block Grant Program.

Nature of Requirement: Section 91.115(i) of HUD's regulations in 24 CFR part 91 requires the State to follow its citizen participation plan.

Granted By: Susan D. Peppler, Assistant Secretary for Community Planning and Development.

Date Granted: August 28, 2008.

Reason Waived: This waiver, in conjunction with the waiver of 24 CFR 91.115(c)(2), allowed the State of Iowa to amend its action plan to reallocate recaptured funds or uncommitted funds for the current program year and provided the State with additional flexibility to address urgent needs in the transition period until supplemental funding becomes available.

Contact: Diane Lobasso, Director, State and Small Cities Division, Office of Block Grant Assistance, Office of Community Planning and Development, Department of Housing and Urban Development, 451 7th Street, SW., Room 7184, Washington, DC 20410-7000, telephone number 202-402-2191.

• Regulation: 24 CFR 91.325(b)(4)(ii).

Project/Activity: The State of Iowa's Community Development Block Grant Program.

Nature of Requirement: Section 91.325(b)(4)(ii) of HUD's regulations in 24 CFR part 91 requires a certification that the State has complied with the criterion that the aggregate use of CDBG funds, including Section 108 guaranteed loans, during a period specified by the State, consisting of one, two, or three specific consecutive program years, shall principally benefit low and moderate income families in a manner that ensures that at least 70 percent of the amount is expended for activities that benefit such persons during the designated period.

Granted By: Susan D. Peppler, Assistant Secretary for Community Planning and Development.

Date Granted: August 28, 2008.

Reason Waived: This waiver allowed the State of Iowa to change its certification of compliance with this requirement retroactively, if the State so chooses, to a three-year period. This waiver also allowed the state to effectively “front-load” the overall 70% calculation which, in turn, allowed the state to use a higher percentage of funds for activities that meet the urgent need or slum/blight national objectives in year one. Nonetheless, HUD encouraged the State to maximize the amount of funding for activities that benefit low- and moderate-income persons.

Contact: Diane Lobasso, Director, State and Small Cities Division, Office of Block Grant Assistance, Office of Community Planning and Development, Department of Housing and Urban Development, 451 7th Street, SW., Room 7184, Washington, DC 20410-7000, telephone number 202-402-2191.

• Regulations: 24 CFR 92.300(a)(1).

Project/Activity: The State of Washington requested a waiver of the HOME final rule to allow it to provide HOME CHDO (community housing development organization) set-aside funds to a limited liability company (LLC) that has a qualified CHDO as its sole managing partner in order to purchase and renovate affordable rental housing in downtown Spokane.

Nature of Requirement: The HOME regulations at 24 CFR 92.300(a)(1) permits a participating jurisdiction to award CHDO set-aside funds to limited partnerships that include a qualified CHDO as the managing partner. LLCs are not an allowable form of CHDO project ownership in the HOME Regulation.

Granted by: Nelson R. Bregon, General Deputy Assistant Secretary for Community Planning and Development.

Date Granted: September 2, 2008.

Reasons Waived: Spokane Housing Ventures (SHV) is a local nonprofit organization that is designated as a CHDO by the City. The waiver was granted so that SHV could purchase and renovate the Bel Franklin Apartments in downtown Spokane; the financing is to include HOME CHDO set-aside funds and Low-Income Housing Tax Credits (LIHTC). To facilitate the LIHTC financing, SHV formed the Bel Franklin Apartments LLC (LLC); SHV is the sole member of the LLC with 100 percent ownership of the project. The City wished to provide HOME CHDO set-aside funds to the LLC. LLCs are not an allowable form of CHDO project ownership in the HOME regulation. The PJ, the CHDO and the LLC agreed that SHV is to be the sole managing member of the Bel Franklin Apartments LLC when the tax credit investors are brought into the transaction and will have effective project control over its operation. Ownership is to revert to SHV at the end of the 15-year tax compliance period. SHV also is to serve as the project developer and property manager. Both SHV and the LLC are bound by the provisions of the HOME regulations and the partnership operating agreement.

Contact: Virginia Sardone, Deputy Director, Office of Affordable Housing Programs, Office of Community Planning and Development, Department of Housing and Urban Development, 451 7th Street SW., Room 7154, Washington, DC 20410-7000, telephone number 202-708-2470.

• Regulation: 24 CFR 570.208(a)(3).

Project/Activity: Orange County, California.

Nature of Requirement: Section 570.208(a)(3) of HUD's regulations in 24 CFR part 570 provide that in order to meet the criteria for the national objective of low- and moderate-income housing activities, two or more rental buildings, under common ownership and management and on the same or contiguous properties, may be treated as a single structure.

Granted By: Susan D. Peppler, Assistant Secretary for Community Planning and Development.

Date Granted: September 22, 2008.

Reason Waived: The Aliso Meadows Condominium complex is comprised of 248 units in 62 buildings. These units are occupied by a combination of owners and renters. The regulation only addresses rental buildings. The waiver was granted because this complex is primarily occupied by low- and moderate-income households and the complex is one of the few affordable housing developments in the city of Laguna Hills, a participant in the Orange County CDBG program. Also, without CDBG assistance this complex would become a blighting influence in the community.

Contact: Mr. Steve Johnson, Director, Entitlement Communities Division, Office of Community Planning and Development, Department of Housing and Urban Development, 451 7th Street, SW., Room 7282, Washington, DC 20410-7000, telephone number 202-402-4548.

• Regulation: 24 CFR 570.308(a).

Project/Activity: The city of Hammonton, NJ, elected to accept its status as an entitlement community and desired a joint agreement with Atlantic County, NJ to plan and implement a joint housing and community development program.

Nature of Requirement: Communities that have been designated as a metropolitan city by OMB may accept or decline their status. A city or town such as Hammonton that accepts its status may enter into a joint agreement with an urban county, but it may only do so when the county is seeking a three-year requalification as an urban county. Atlantic County is currently entering into its third year of qualification for FYs 2007-2009 and will requalify as an urban county in 2009 for FYs 2010-2012.

Granted By: Susan D. Peppler, Assistant Secretary for Community Planning and Development.

Date Granted: September 25, 2008.

Reason Waived: Hammonton is only allowed by regulation to spend $30,000 on administrative expenses, which is insufficient to begin and administer a separate CDBG program. In addition, Hammonton does not have the available resources to prepare the CDBG application and reporting documentation, such as the citizen participation plan, Consolidated Plan/Action Plan, fair housing analysis, and Consolidated Annual Performance and Evaluation Report. Finally, Hammonton staff does not have the skills to conduct transaction in HUD's Integrated Disbursement and Information System, which is necessary for successful CDBG program administration. Atlantic County is willing to provide Hammonton with administrative services and fully supports Hammonton's request for a waiver of 24 CFR 570.308(a).

Contact: Gloria Coates, Entitlement Communities Division, Office of Block Grant Assistance, Office of Community and Planning Development, 451 7th Street, SW., Room 7282, Washington, DC 20410-7000, telephone number 202-708-1577.

• Regulation: 24 CFR 570.483(b)(4)(iv)(A)(1).

Project/Activity: The State of Iowa's Community Development Block Grant Program.

Nature of Requirement: Section 570.483(b)(4)(iv)(A)(1) of HUD's regulations in 24 CFR part 570 requires that for the purpose of determining whether a job is held by or made available to a low or moderate income person, the person may be presumed to be a low or moderate income person if he/she resides within a census tract (or block numbering area) or meets other criteria as mentioned in the regulation.

Granted By: Susan D. Peppler, Assistant Secretary for Community and Planning Development.

Date Granted: August 28, 2008.

Reason Waived: This waiver was granted and modified the criteria for locations in which a person may be presumed to be low or moderate income. The impact of the disaster on the State's economy (and on individual businesses) was so severe that, absent substantial evidence to the contrary, the State was reasonable in presuming that jobs would actually be lost from businesses that have been put out of operation or whose continued operation is endangered. The Housing and Community Development Act describes certain situations in which jobs may be presumed to principally benefit low- and moderate-income persons. The degree of socioeconomic and physical distress that exists in many Iowa communities was functionally equivalent to the degree of distress recognized by the statutory criteria allowing such presumptions.

Contact: Diane Lobasso, Director, State and Small Cities Division, Office of Block Grant Assistance, Office of Community Planning and Development, Department of Housing and Urban Development, 451 7th Street, SW., Room 7184, Washington, DC 20410-7000, telephone number 202-402-2191.

• Regulation: 24 CFR 570.483(b)(4)(v).

Project/Activity: The State of Iowa's Community Development Block Grant Program.

Nature of Requirement: Section 570.483(b)(4)(v) of HUD's regulations provides that a census tract (or block numbering area) qualifies for certain presumptions under paragraphs (b)(4)(iv)(A)(1) and (B) of the regulations if it is either part of a Federally-designated Empowerment Zone or Enterprise Community or meets other criteria.

Granted By: Susan D. Peppler, Assistant Secretary for Community Planning and Development.

Date Granted: August 28, 2008.

Reason Waived: This waiver was granted and modified the criteria for locations in which a person may be presumed to be low or moderate income. The impact of the disaster on the State's economy (and on individual businesses) was so severe that, absent substantial evidence to the contrary, the State was reasonable in presuming that jobs would actually be lost from businesses that have been put out of operation or whose continued operation is endangered. The Housing and Community Development Act describes certain situations in which jobs may be presumed to principally benefit low- and moderate-income persons. The degree of socioeconomic and physical distress that exists in many Iowa communities was functionally equivalent to the degree of distress recognized by the statutory criteria allowing such presumptions.

Contact: Diane Lobasso, Director, State and Small Cities Division, Office of Block Grant Assistance, Office of Community Planning and Development, Department of Housing and Urban Development, 451 7th Street, SW., Room 7184, Washington, DC 20410-7000, telephone number 202-402-2191.

• Regulation: 24 CFR 570.484.

Project/Activity: The State of Iowa's Community Development Block Grant Program.

Nature of Requirement: Section 570.484 of HUD's regulations requires the State to certify that, in the aggregate, not less than 70 percent of CDBG funds received by the State during a period specified by the State, not to exceed three years, will be used for activities that benefit persons of low and moderate income.

Granted By: Susan D. Peppler, Assistant Secretary for Community Planning and Development.

Date Granted: August 28, 2008.

Reason Waived: This waiver allowed the State of Iowa to change its certification of compliance with this requirement, retroactively if the State so chooses, to a three-year period. This waiver also allowed the State to effectively “front-load” the overall 70% calculation which allowed the state to use a higher percentage of funds for activities that meet the urgent need for slum/blight national objectives in year one. Nonetheless, HUD encouraged the State to maximize the amount of funding for activities that benefit low- and moderate-income persons.

Contact: Diane Lobasso, Director, State and Small Cities Division, Office of Block Grant Assistance, Office of Community Planning and Development, Department of Housing and Urban Development, 451 7th Street, SW., Room 7184, Washington, DC 20410-7000, telephone number 202-402-2191.

II. Regulatory Waivers Granted by the Office of Housing-Federal Housing Administration (FHA)

For further information about the following regulatory waivers, please see the name of the contact person that immediately follows the description of the waiver granted.

• Regulation: 24 CFR 203.43f.

Project/Activity: State of Louisiana.

Nature of Requirement: Section 203.43f of HUD's regulations in 24 CFR part 203 authorizes the insuring of manufactured homes built pursuant to the National Manufactured Home Construction and Safety Standards and meeting certain other requirements set forth therein. Among the requirements in Section 203.43f(c)(i) manufactured homes which have not been permanently sited for more than one year prior to the date of application for mortgage insurance must have the finished grade beneath the manufactured home at or above the 100 year return frequency flood elevation. Section 203.43f(d)(ii) provides that manufactured homes which have been permanently erected on a site for more than one year prior to the date of application for mortgage insurance must have the finished grade level beneath the manufactured home at or above the 100 year return frequency flood elevation.

Granted By: Brian D. Montgomery, Assistant Secretary for Housing-Federal Housing Commissioner.

Date Granted: August 1, 2008.

Reason Waived: The waiver was granted to permit the placement of FHA mortgage insurance on manufactured homes installed in the Federal Emergency Management Agency-designated flood plains in accordance with the National Flood Insurance Program installation requirements for manufactured homes found at 44 CFR 60.3(c)(6) or 44 CFR 60.3(c)(12). The waiver of the regulations required that the lowest floor of the manufactured home to be at or above the 100 year return frequency flood elevation for the purpose of not violating any statutory requirements. Accordingly, the waiver permits the placement of FHA mortgage insurance on manufactured homes sited in the State of Louisiana, in flood designated areas with the lowest floor at or above the 100 year return frequency, and otherwise conforming with HUD requirements for Title II, Section 203(b) financing of manufactured homes.

Contact: Joanne B. Kuczma, Director, Home Mortgage Insurance Division, Office of Housing, Department of Housing and Urban Development, 451 7th Street SW., Room 9266, Washington, DC 20410-8000, telephone number 202-708-2121.

• Regulation: 24 CFR 219.220(b).

Project/Activity: Pinelake Village Cooperative, Ann Arbor, Michigan—FHA Project Number 044-44290. The property is a 129-unit cooperative which requires renovations to continue as a well-maintained source of affordable housing. Refinancing will provide sufficient funds for needed capital improvements at the property.

Nature of Requirement: Section 219.220(b) of HUD's regulations in 24 CFR part 219 governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted by: Brian D. Montgomery, Assistant Secretary for Housing-Federal Housing Commissioner.

Date Granted: July 21, 2008.

Reason Waived: This waiver was granted to preserve this much needed affordable housing. Pinelake Village is a 129-unit Section 236 property with a flexible subsidy loan. Eighty one units receive Section 8 project based rental assistance. Providing this waiver allowed the owner to prepay the existing mortgage, obtain financing to perform substantial rehabilitation of the property and allow the amortization of the flexible subsidy loan with the new mortgage.

Contact: Beverly J. Miller, Director, Office of Asset Management, Office of Housing, Department of Housing and Urban Development, 451 7th Street, SW., Room 6160, Washington, DC 20410-8000, telephone number 202-708-3730.

• Regulation: 24 CFR 219.220(b).

Project/Activity: St. Patrick's Terrace, Oakland, California—FHA Project Number 121-44816. The owner/managing agent is requesting a deferral of the repayment of the Flexible Subsidy loan. Major rehabilitation is needed at the project.

Nature of Requirement: Section 219.220(b) of HUD's regulations in 24 CFR part 219 governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted by: Brian D. Montgomery, Assistant Secretary for Housing-Federal Housing Commissioner.

Date Granted: August 27, 2008.

Reason Waived: The property owner was granted the waiver of the regulations which required repayment of the operating assistance loans in order to defer repayment of the Flexible Subsidy loan and preserve the long-term affordability of the project. This waiver allowed the property to undergo major rehabilitation. The owner is to refinance the insured mortgage with a non-insured lender, and amortize the flexible subsidy debt over the new mortgage term. A new Use Agreement is to be recorded in first position ahead of any new financing and rents will be affordable for 55 years.

Contact: Beverly J. Miller, Director, Office of Asset Management, Office of Housing, Department of Housing and Urban Development, 451 7th Street, SW., Room 6160, Washington, DC 20410-8000, telephone number 202-708-3730.

• Regulation: 24 CFR 219.220(b).

Project/Activity: St. Andrew's Manor, Oakland, California—FHA Project Number 121-44818. The owner/managing agent is requesting a deferral of the repayment of the Flexible Subsidy loan. Major rehabilitation is needed at the project.

Nature of Requirement: Section 219.220(b) of HUD's regulations in 24 CFR part 219 governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted by: Brian D. Montgomery, Assistant Secretary for Housing-Federal Housing Commissioner.

Date Granted: August 28, 2008.

Reason Waived: The property owner was granted the waiver of the regulations which required repayment of the operating assistance loans in order to defer repayment of the Flexible Subsidy loan and preserve the long-term affordability of the project. This waiver allowed the property to undergo major rehabilitation. The owner proposes to refinance the insured mortgage with a non-insured lender, and amortize the flexible subsidy debt over the new mortgage term. A new Use Agreement is to be recorded in first position ahead of any new financing and rents will be affordable for 55 years.

Contact: Beverly J. Miller, Director, Office of Asset Management, Office of Housing, Department of Housing and Urban Development, 451 7th Street, SW., Room 6160, Washington, DC 20410-8000, telephone number 202-708-3730.

• Regulation: 24 CFR 266.638(d).

Project/Activity: Villa St. Maurice, New Orleans, LA—FHA Project Number 064-98016, Villa Additions, New Orleans, LA—FHA Project Number 064-98017, St. Bernard I—Meraux, LA—FHA Project Number 064-98012, St. Bernard II—Meraux, LA—FHA Project Number 064-98013, St. Martin Manor—FHA Project Number 064-98014, and St. Martin House—FHA Project Number 064-98015. The projects were destroyed by Hurricane Katrina in August 2005. HUD agreed to allow an 18-month suspension of debenture interest accrual.

Nature of Requirement: Under HUD's regulation at 24 CFR 266.638(d), the housing finance agency (HFA) debenture shall bear interest at HUD's published debenture at the earlier of initial endorsement or final endorsement. Interest shall be due and payable annually on the anniversary date of the initial claim payment and on the date of redemption when redeemed or canceled before an anniversary date. Interest shall be computed on the full face amount of the HFA debenture through the term of the HFA debenture.

Granted by: Brian D. Montgomery, Assistant Secretary for Housing-Federal Housing Commissioner.

Date Granted: August 19, 2008.

Reason Waived: This waiver allowed full refinancing for the reconstruction of the projects. The owner's history of successfully settling Risk Sharing claims on 5 properties resulted in the full redemption of the Louisiana HFA debentures. This included currently accrued interest and will assure concrete plans are in place to refinance the remaining 6 properties as well.

Contact: Beverly J. Miller, Director, Office of Asset Management, Office of Housing, Department of Housing and Urban Development, 451 7th Street, SW., Room 6160, Washington, DC 20410-7000, telephone number 202-708-3730.

• Regulation: 24 CFR 290.30(a).

Project/Activity: Kimberly Parkway (a/k/a Marsh Run) Columbus, Ohio—FHA Project Number 043-35369. The insured loan on this property went into default and was assigned to HUD in August 2007. Waiver of this regulation would allow the Columbus Metropolitan Housing Authority to purchase this defaulted unsubsidized mortgage loan on a noncompetitive basis.

Nature of Requirement: HUD's regulations governing the sale of HUD-held mortgages are set forth in 24 CFR part 290, subpart B. Section 290.30(a) of those regulations state that “[e]xcept as otherwise provided in section 290.31(a)(2), HUD will sell HUD-held multifamily mortgages on a competitive basis.” Section 290.31(a)(2) permits “negotiated” sales to state or local governments for mortgage loans that are current and secured by subsidized projects, provided such loans are sold with FHA insurance.

Granted by: Brian D. Montgomery, Assistant Secretary for Housing-Federal Housing Commissioner.

Date Granted: August 18, 2008.

Reason Waived: This regulation was waived in order to allow the sale of Kimberly Parkway and to prevent foreclosure of the property. Foreclosure would have terminated the free lunch program, child care for working parents, job training and search services and other services at the project, causing a hardship for the tenants who live in this economically distressed area of Columbus. Seventy percent of residents are very low-income. All residents receive rental assistance through Section 8 housing vouchers. The assistance will continue after the mortgage is sold to the Columbus Metropolitan Housing Authority.

Contact: Beverly J. Miller, Director, Office of Asset Management, Office of Housing, Department of Housing and Urban Development, 451 7th Street, SW., Room 6160, Washington, DC 20410-7000, telephone number 202-708-3730.

• Regulation: 24 CFR 290.30(a).

Project/Activity: Bethany Homes, New Orleans, Louisiana—FHA Project Number 064-43051. The project is unsubsidized and in default. Since the Department seeks to sell the note, a waiver of this regulation was requested by the Fort Worth Multifamily Hub.

Nature of Requirement: HUD's regulations governing the sale of HUD-Held mortgages are set forth in 24 CFR part 290, subpart B. Section 290.30(a) of those regulations state that “[e]xcept as otherwise provided in section 290.31(a)(2), HUD will sell HUD-Held multifamily mortgages on a competitive basis.” Section 290.31(a)(2) permits “negotiated” sales to state or local governments for mortgage loans that are current and secured by subsidized projects, provided such loans are sold with FHA insurance.

Granted by: Brian D. Montgomery, Assistant Secretary for Housing-Federal Housing Commissioner.

Date Granted: August 18, 2008.

Reason Waived: This regulation was waived in order to allow the noncompetitive sale of Bethany Homes and to prevent foreclosure of the property. Waiver of this requirement would produce budget savings by generating proceeds to the U.S. Treasury and reduce the number of loans in the HUD-held mortgage inventory.

Contact: Beverly J. Miller, Director, Office of Asset Management, Office of Housing, Department of Housing and Urban Development, 451 7th Street, SW., Room 6160, Washington, DC 20410-8000, telephone number 202-708-3730.

• Regulation: 24 CFR 290.30(a).

Project/Activity: Malta Square, New Orleans, Louisiana—FHA Project Number 064-43079. This property is an independent care and assisted living facility which has been vacant since September 2005 when it was flooded during Hurricane Katrina.

Nature of Requirement: HUD's regulations governing the sale of HUD-Held mortgages are set forth in 24 CFR part 290, subpart B. Section 290.30(a) of those regulations state that “[e]xcept as otherwise provided in section 290.31(a)(2), HUD will sell HUD-Held multifamily mortgages on a competitive basis.” Section 290.31(a)(2) permits “negotiated” sales to state or local governments for mortgage loans that are current and secured by subsidized projects, provided such loans are sold with FHA insurance.

Granted by: Brian D. Montgomery, Assistant Secretary for Housing-Federal Housing Commissioner.

Date Granted: August 18, 2008.

Reason Waived: This regulation was waived in order to allow the noncompetitive sale of Malta Square and prevent foreclosure of the property. Waiver of this requirement would produce budget savings by generating proceeds to the U.S. Treasury and reduce the number of loans in the HUD-held mortgage inventory.

Contact: Beverly J. Miller, Director, Office of Asset Management, Office of Housing, Department of Housing and Urban Development, 451 7th Street, SW., Room 6160, Washington, DC 20410-8000, telephone number 202-708-3730.

• Regulation: 24 CFR 5.655(b)(5).

Project/Activity: Tumbleweed Apartments, Lyons, Kansas—FHA Project Number 102-35164V and W. This 16-unit project is experiencing difficulty in leasing units to qualified families of two or more individuals.

Nature of Requirement: Section 5.655(b)(5) of HUD's regulations in 24 CFR part 5 applies to Section 8 project based assistance program requirements for selection for occupancy of a project or unit. Housing assistance limitation for single persons—a single person who is not an elderly or displaced person, a person with disabilities, or the remaining member of a resident family may not be provided a housing unit with two or more bedrooms.

Granted by: Brian D. Montgomery, Assistant Secretary for Housing-Federal Housing Commissioner.

Date Granted: August 22, 2008.

Reason Waived: This waiver was granted because of the project's difficulty in locating potential qualified occupants. Management had exhausted all reasonable marketing efforts, including advertising locally continually in the Lyons Daily News, as well as distributing flyers locally. This waiver allowed admission of single adults who are otherwise eligible and qualified for occupancy in these two-bedroom units. The owner will be able to maintain full occupancy and the project will not fail.

Contact: Beverly J. Miller, Director, Office of Asset Management, Office of Housing, Department of Housing and Urban Development, 451 7th Street, SW., Room 6160, Washington, DC 20410-8000, telephone number 202-708-3730.

• Regulation: 24 CFR 891.100(d).

Project/Activity: Lakeview Properties, Baltimore, MD, Project Number: 052-HD071/MD06-Q051-005.

Nature of Requirement: Section 891.100(d) prohibits amendment of the amount of the approved capital advance funds prior to initial closing.

Granted by: Brian D. Montgomery, Assistant Secretary for Housing-Federal Housing Commissioner.

Date Granted: July 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Carlsbad Senior Community, Carlsbad, NM, Project Number: 116-EE040/NM16-S061-003.

Nature of Requirement: Section 891.100(d) prohibits amendment of the amount of the approved capital advcance funds prior to closing.

Granted by: Brian D. Montgomery, Assistant Secretary for Housing-Federal Housing Commissioner.

Date Granted: July 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Deneki House, Wasilla, AK, Project Number: 176-HD028/AK06-Q061-001.

Nature of Requirement: Section 891.100(d) prohibits amendment of the amount of the approved capital advcance funds prior to closing.

Granted by: Brian D. Montgomery, Assistant Secretary for Housing-Federal Housing Commissioner.

Date Granted: July 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Princeton Manor, Florida City, FL, Project Number: 066-EE103/FL29-S041-006.

Nature of Requirement: Section 891.100(d) prohibits amendment of the amount of the approved capital advcance funds prior to closing.

Granted by: Brian D. Montgomery, Assistant Secretary for Housing-Federal Housing Commissioner.

Date Granted: July 18, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Golden Age Apartments, Pine Bluff, AR, Project Number: 082-EE177/AR37-S061-004.

Nature of Requirement: Section 891.100(d) prohibits amendment of the amount of the approved capital advcance funds prior to closing.

Granted by: Brian D. Montgomery, Assistant Secretary for Housing-Federal Housing Commissioner.

Date Granted: July 28, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Penelope 35-II Apartments, Bloomington, MN, Project Number: 092-EE127/MN46-S071-003.

Nature of Requirement: Section 891.100(d) prohibits amendment of the amount of the approved capital advance funds prior to closing.

Granted by: Brian D. Montgomery, Assistant Secretary for Housing-Federal Housing Commissioner.

Date Granted: July 30, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Cornerstone Homes, New Orleans, LA, Project Number: 064-EE167/LA48-S041-005.

Nature of Requirement: Section 891.100(d) prohibits amendment of the amount of the approved capital advance funds prior to closing.

Granted by: Brian D. Montgomery, Assistant Secretary for Housing-Federal Housing Commissioner.

Date Granted: August 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Waynedale II Apartment, Fort Wayne, IN, Project Number: 073-HD084/IN36-Q071-003.

Nature of Requirement: Section 891.100(d) prohibits amendment of the amount of the approved capital advance funds prior to closing.

Granted by: Brian D. Montgomery, Assistant Secretary for Housing-Federal Housing Commissioner.

Date Granted: August 6, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Hawkins House Apartments, Lake Stevens, WA, Project Number: 127-EE059/WA19-S061-002.

Nature of Requirement: Section 891.100(d) prohibits amendment of the amount of the approved capital advance funds prior to closing.

Granted by: Brian D. Montgomery, Assistant Secretary for Housing-Federal Housing Commissioner.

Date Granted: August 7, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Bayou LaBatre VOA Elderly Housing, Incorporated, Bayou LaBatre, AL, Project Number: 062-EE082/AL09-S061-002.

Nature of Requirement: Section 891.100(d) prohibits amendment of the amount of the approved capital advance funds prior to closing.

Granted by: Brian D. Montgomery, Assistant Secretary for Housing-Federal Housing Commissioner.

Date Granted: August 8, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Vista Gallinas Apartments, Las Vegas, NM, Project Number: 116-HD030/NM16-Q061-002.

Nature of Requirement: Section 891.100(d) prohibits amendment of the amount of the approved capital advance funds prior to closing.

Granted by: Brian D. Montgomery, Assistant Secretary for Housing-Federal Housing Commissioner.

Date Granted: August 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: TELACU-El Paseo, Riverside, CA, Project Number: 143-EE064/CA43-Q061-003.

Nature of Requirement: Section 891.100(d) prohibits amendment of the amount of the approved capital advance funds prior to closing.

Granted by: Brian D. Montgomery, Assistant Secretary for Housing-Federal Housing Commissioner.

Date Granted: August 14, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Community Homes of Bismarck, Bismarck, ND, Project Number: 094-HD015/ND99-Q061-001.

Nature of Requirement: Section 891.100(d) prohibits amendment of the amount of the approved capital advance funds prior to closing.

Granted by: Brian D. Montgomery, Assistant Secretary for Housing-Federal Housing Commissioner.

Date Granted: August 15, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Rockland Street Elderly Housing, Roxbury, MA, Project Number: 023-EE206/MA06-S061-005.

Nature of Requirement: Section 891.100(d) prohibits amendment of the amount of the approved capital advance funds prior to closing.

Granted by: Brian D. Montgomery, Assistant Secretary for Housing-Federal Housing Commissioner.

Date Granted: August 16, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Ken-Crest PA 2006, Philadelphia, PA, Project Number: 034-HD093/PA26-Q061-001.

Nature of Requirement: Section 891.100(d) prohibits amendment of the amount of the approved capital advance funds prior to closing.

Granted by: Brian D. Montgomery, Assistant Secretary for Housing-Federal Housing Commissioner.

Date Granted: August 18, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Oasis de Amor, Patillas, PR, Project Number: 056-HD032/RQ46-Q061-002.

Nature of Requirement: Section 891.100(d) prohibits amendment of the amount of the approved capital advance funds prior to closing.

Granted by: Brian D. Montgomery, Assistant Secretary for Housing-Federal Housing Commissioner.

Date Granted: August 25, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: La Casa de Dona Here, Mayaguez, PR, Project Number: 056-HD028/RQ46-Q051-003.

Nature of Requirement: Section 891.100(d) prohibits amendment of the amount of the approved capital advance funds prior to closing.

Granted by: Brian D. Montgomery, Assistant Secretary for Housing-Federal Housing Commissioner.

Date Granted: August 25, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Community Options Eleanor, Howell Twp, NJ, Project Number: 031-HD148/NJ39-Q061-001.

Nature of Requirement: Section 891.100(d) prohibits amendment of the amount of the approved capital advance funds prior to closing.

Granted by: Brian D. Montgomery, Assistant Secretary for Housing-Federal Housing Commissioner.

Date Granted: August 26, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Golden Plains II, Garden City, KS, Project Number: 102-HD039/KS16-Q071-003.

Nature of Requirement: Section 891.100(d) prohibits amendment of the amount of the approved capital advance funds prior to closing.

Granted by: Brian D. Montgomery, Assistant Secretary for Housing-Federal Housing Commissioner.

Date Granted: September 4, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: SHDC No. 12, Kailua Kona, HI, Project Number: 140-HD030/HI10-Q041-001.

Nature of Requirement: Section 891.100(d) prohibits amendment of the amount of the approved capital advance funds prior to closing.

Granted by: Brian D. Montgomery, Assistant Secretary for Housing-Federal Housing Commissioner.

Date Granted: September 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Lovejoy Road, North Andover, MA, Project Number: 023-HD220/MA06-Q051-001.

Nature of Requirement: Section 891.100(d) prohibits amendment of the amount of the approved capital advance funds prior to closing.

Granted by: Brian D. Montgomery, Assistant Secretary for Housing-Federal Housing Commissioner.

Date Granted: September 8, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Valley Affordable, Warwick, RI, Project Number: 016-EE059/RI43-S051-002.

Nature of Requirement: Section 891.100(d) prohibits amendment of the amount of the approved capital advance funds prior to closing.

Granted by: Brian D. Montgomery, Assistant Secretary for Housing-Federal Housing Commissioner.

Date Granted: September 9, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Leonia Retirement Housing II, Leonia, NJ, Project Number: 031-EE069/NJ39-S061-003.

Nature of Requirement: Section 891.100(d) prohibits amendment of the amount of the approved capital advance funds prior to closing.

Granted by: Brian D. Montgomery, Assistant Secretary for Housing-Federal Housing Commissioner.

Date Granted: September 9, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: ASI-Worthington, Worthington, MN, Project Number: 092-EE125/MN46-S071-001.

Nature of Requirement: Section 891.100(d) prohibits amendment of the amount of the approved capital advance funds prior to closing.

Granted by: Brian D. Montgomery, Assistant Secretary for Housing-Federal Housing Commissioner.

Date Granted: September 9, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Gracemont House, Baytown, TX, Project Number: 114-HD038/TX24-Q071-002.

Nature of Requirement: Section 891.100(d) prohibits amendment of the amount of the approved capital advance funds prior to closing.

Granted by: Brian D. Montgomery, Assistant Secretary for Housing-Federal Housing Commissioner.

Date Granted: September 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: South Central Industries, Shawnee, OK, Project Number: 117-HD038/OK56-Q071-001.

Nature of Requirement: Section 891.100(d) prohibits amendment of the amount of the approved capital advance funds prior to closing.

Granted by: Brian D. Montgomery, Assistant Secretary for Housing-Federal Housing Commissioner.

Date Granted: September 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Toby House VII, Phoenix, AZ, Project Number: 123-HD039/AZ20-Q051-001.

Nature of Requirement: Section 891.100(d) prohibits amendment of the amount of the approved capital advance funds prior to closing.

Granted by: Brian D. Montgomery, Assistant Secretary for Housing-Federal Housing Commissioner.

Date Granted: September 12, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Henderson Supportive Housing, Henderson, NV, Project Number: 125-HD074/NV25-Q061-001.

Nature of Requirement: Section 891.100(d) prohibits amendment of the amount of the approved capital advance funds prior to closing.

Granted by: Brian D. Montgomery, Assistant Secretary for Housing-Federal Housing Commissioner.

Date Granted: September 12, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Silvercrest Senior Housing, Briarwood, NY, Project Number: 012-EE349/NY36-S061-005.

Nature of Requirement: Section 891.100(d) prohibits amendment of the amount of the approved capital advance funds prior to closing.

Granted by: Brian D. Montgomery, Assistant Secretary for Housing-Federal Housing Commissioner.

Date Granted: September 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Vista Gallinas, Las Vegas, NM, Project Number: 116-HD030/NM16-Q061-002.

Nature of Requirement: Section 891.100(d) prohibits amendment of the amount of the approved capital advance funds prior to closing.

Granted by: Brian D. Montgomery, Assistant Secretary for Housing-Federal Housing Commissioner.

Date Granted: September 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone number 202-708-3000.

• Regulation: 24 CFR 891.100(d).

Project/Activity: CSPNJ Homes 2006, Pennsville, NJ, Project Number: 035-HD064/NJ39-Q061-005.

Nature of Requirement: Section 891.100(d) prohibits amendment of the amount of the approved capital advance funds prior to closing.

Granted by: Brian D. Montgomery, Assistant Secretary for Housing-Federal Housing Commissioner.

Date Granted: September 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Margaret B. Mack Apartments, New Haven, CT, Project Number: 017-HD038/CT26-Q061-001.

Nature of Requirement: Section 891.100(d) prohibits amendment of the amount of the approved capital advance funds prior to closing.

Granted by: Brian D. Montgomery, Assistant Secretary for Housing-Federal Housing Commissioner.

Date Granted: September 24, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: St. Mary's Senior Residence, Dumont, NJ, Project Number: 031-EE067/NY39-S061-001.

Nature of Requirement: Section 891.100(d) prohibits amendment of the amount of the approved capital advance funds prior to closing.

Granted by: Brian D. Montgomery, Assistant Secretary for Housing-Federal Housing Commissioner.

Date Granted: September 25, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone number 202-708-3000.

• Regulation: 24 CFR 891.100(d) and 24 CFR 891.165.

Project/Activity: Middle Street Residence, Amesbury, MA, Project Number: 023-HD199/MA06-Q031-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 1, 2008.

Reason Waived: The project is economically designed and comparable in cost to similar projects in the area, and the sponsor/owner exhausted all efforts to obtain additional funding from other sources. The sponsor/owner required additional time to find a suitable site.

Contact: Willie Spearmon, Director, Office of Housing Assistance and Grant Administration, Department of Housing and Urban Development, 451 7th Street, SW., Washington, DC 20410-8000, telephone number 202-708-3000.

• Regulation: 24 CFR 891.100(d) and 24 CFR 891.165

Project/Activity: Ottawa Oak Harbor, Oak Harbor, OH, Project Number: 042-EE194/OH12-S051-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 8, 2008.

Reason Waived: The project is economically designed and comparable in cost to similar projects in the area, and the sponsor/owner exhausted all efforts to obtain additional funding from other sources. The sponsor/owner required additional time to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Berkshire County ARC-Lanesborough, Lanesborough, MA, Project Number: 023-HD224/MA06-Q051-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 13, 2008.

Reason Waived: The project is economically designed and comparable in cost to similar projects in the area, and the sponsor/owner exhausted all efforts to obtain additional funding from other sources. The sponsor/owner required additional time to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Transitional Services for New York, New York, NY, Project Number: 012-EE128/NY36-Q051-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 15, 2008.

Reason Waived: The project is economically designed and comparable in cost to similar projects in the area, and the sponsor/owner exhausted all efforts to obtain additional funding from other sources. The sponsor/owner required additional time to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Roncalli Apartments, Augusta, ME, Project Number: 024-EE085/ME36-S041-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 15, 2008.

Reason Waived: The project is economically designed and comparable in cost to similar projects in the area, and the sponsor/owner exhausted all efforts to obtain additional funding from other sources. The sponsor/owner required additional time to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Shillman House, Framingham, MA, Project Number: 023-EE187/MA06-S051-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 19, 2008.

Reason Waived: The project is economically designed and comparable in cost to similar projects in the area, and the sponsor/owner exhausted all efforts to obtain additional funding from other sources. Additional time was needed for the firm commitment application to be processed and for the project to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: TRC Senior Village I, Chicago, IL, Project Number: 071-EE212/IL06-S051-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 25, 2008.

Reason Waived: The project is economically designed and comparable in cost to similar projects in the area, and the sponsor/owner exhausted all efforts to obtain additional funding from other sources. Additional time was needed for the firm commitment application to be processed and for the project to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Independence Manor III, Braintree, MA, Project Number: 023-EE169/MA06-S031-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 10, 2008.

Reason Waived: The project is economically designed and comparable in cost to similar projects in the area, and the sponsor/owner exhausted all efforts to obtain additional funding from other sources. The sponsor/owner required additional time to resolve site issues.

Contact: Willie Spearmon, Director, Office of Housing Assistance and Grant Administration, Office of Housing, Department of Housing and Urban Development, 451 7th Street, SW., Room 6130, Washington, DC 20410-8000, telephone number 202-708-3000.

• Regulation: 24 CFR 891.130(b).

Project/Activity: Roncalli Apartments, Augusta, ME, Project Number: 024-EE085/ME36-S041-003.

Nature of Requirement: Section 891.130(a) prohibits an identity of interest between the Sponsor or Owner with development team members or between development team members until two years after final closing.

Granted by: Brian D. Montgomery, Assistant Secretary for Housing-Federal Housing Commissioner.

Date Granted: September 17, 2008.

Reason Waived: All three entities have five common board members and fall under the umbrella of the Catholic Church and meet the HUD requirements.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: TBD, Pittsfield, MA, Project Number: 023-HD214/MA06-Q041-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 5, 2008.

Reason Waived: Additional time was needed for the firm commitment application to be processed and for the project to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Claremont House, Mt. Vernon, NY, Project Number: 012-HD135/NY36-Q011-007.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 5, 2008.

Reason Waived: The sponsor/owner needed additional time to resolve issues with the City of Mt. Vernon, NY regarding its tax exemption status.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Lovejoy Road, North Andover, MA, Project Number: 023-HD220/MA06-Q051-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 5, 2008.

Reason Waived: The sponsor/owner needed additional time for an initial closing to take place.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Mulberry Manor, Wayne, West Virginia, Project Number: 045-HD041/WV15-Q051-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 7, 2008.

Reason Waived: Additional time was needed for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Easter Seals-Goodwill, Sheridan, WY, Project Number: 109-HD014/WY99-Q051-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 13, 2008.

Reason Waived: The sponsor/owner needed additional time to resolve site issues and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Denver VOA Lawrence Street, Denver, CO, Project Number: 101-HD040/CO99-Q051-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: August 19, 2008.

Reason Waived: Additional time was needed for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Morning Star Housing, Moline, IL, Project Number: 071-HD156/IL06-Q061-007.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 4, 2008.

Reason Waived: Additional time was needed to process the firm commitment and for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Morning Star Senior Residences, Moline, IL, Project Number: 071-EE216/IL06-S051-011.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 9, 2008.

Reason Waived: The owner/sponsor needed additional time to resubmit exhibits for the site change to be approved, for the firm commitment to be processed and for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Center of Hope, Southbridge, MA, Project Number: 023-HD221/MA06-Q051-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 18, 2008.

Reason Waived: The sponsor/owner needed additional time to reach an agreement with the state architect concerning the resigning of the configuration of the project.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Laurel Place, West Hollywood, CA, Project Number: 122-EE187/CA16-S031-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 23, 2008.

Reason Waived: The sponsor/owner needed additional time to resolve opposition and litigation issues and for the project to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Academy Place, Gowanda, NY, Project Number: 014-EE253/NY06-Q051-009.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 30, 2008.

Reason Waived: Additional time was needed for the firm commitment to be issued and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Red Lake Supportive Housing, Red Lake, MN, Project Number: 092-HD069/MN46-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: September 30, 2008.

Reason Waived: The sponsor/owner needed additional time to complete submission of the firm application and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165 and 24 CFR 891.805 and 891.830(b) and 891.830(c)(4).

Project/Activity: Montclair Senior Apartments, Montclair, CA, Project Number: 143-EE062/CA43-S061-001.

Nature of Requirement: Section 891.165 provides that the duration of the fund reservation of the capital advance is 18 months from the date of issuance with limited exceptions up to 24 months, as approved by HUD on a case-by-case basis. Section 891.805 requires that the general partner in the for-profit limitied partnership be a Private Nonprofit Organization. Section 891.830(b) requires that capital advance funds be drawn down only in an approved ratio to other funds in accordance with a drawndown schedule approved by HUD. Section 891.830(c)(4) prohibits the capital advance funds from paying off bridge or construction financing, or repaying or collateralizing bonds.

Granted by: Brian D. Montgomery, Assistant Secretary for Housing-Federal Housing Commissioner.

Date Granted: July 8, 2008.

Reason Waived: Additional time was needed for the firm commitment to be issued and for the project to be initially/finally closed. The proposed sole nonprofit general patner of the for-profit mixed finance owner meets the statutoy definition. Also, the other funding sources needed to be disbursed faster than a pro rata disbursement would allow, and the capital advance funds will only be used to pay off the portion of the construction financing that strictly relate to capital advance eligible costs.

Contact: Willie Spearmon, Director, Office of Housing Assistance and Grant Administration, Office of Housing, Department of Housing and Urban Development, 451 7th Street, SW., Room 6130, Washington, DC 20410-8000, telephone number 202-708-3000.

• Regulation: 24 CFR 891.205.

Project/Activity: Cornerstone Homes, New Orleans, LA, Project Number: 064-EE167/LA48-S041-005.

Nature of Requirement: Section 891.205 requires Section 202 project owners to have tax exemption status under Section 501(c)(3) or (c)(4) of the Internal Revenue Code.

Granted by: Brian D. Montgomery, Assistant Secretary for Housing-Federal Housing Commissioner.

Date Granted: August 8, 2008.

Reason Waived: The required tax-exemption ruling from IRS was to be issued, but not in time for the scheduled initial closing of the project.

Contact: Willie Spearmon, Director, Office of Housing Assistance and Grant Administration, Office of Housing, Department of Housing and Urban Development, 451 7th Street, SW., Room 6130, Washington, DC 20410-8000, telephone number 202-708-3000.

• Regulation: 24 CFR 891.205.

Project/Activity: Silvercrest Senior Housing, Briarwood, NY, Project Number: 012-EE349/NY36-S061-005.

Nature of Requirement: Section 891.205 requires Section 202 project owners to have tax exemption status under Section 501(c)(3) or (c)(4) of the Internal Revenue Code.

Granted by: Brian D. Montgomery, Assistant Secretary for Housing-Federal Housing Commissioner.

Date Granted: September 25, 2008.

Reason Waived: The required tax-exemption ruling from IRS was to be issued, but not in time for the scheduled initial closing of the project.

Contact: Willie Spearmon, Director, Office of Housing Assistance and Grant Administration, Office of Housing, Department of Housing and Urban Development, 451 7th Street, SW., Room 6130, Washington, DC 20410-8000, telephone number 202-708-3000.

• Regulation: 24 CFR 891.305.

Project/Activity: Community Options Eleanor, Howell Twp, NJ, Project Number: 031-HD148/NJ39-Q061-001.

Nature of Requirement: Section 891.305 requires Section 811 project owners to have tax-exempt status under Section 501(c)(3) of the Internal Revenue Code.

Granted by: Brian D. Montgomergy, Assistant Secretary for Housing-Federal Housing Commissioner.

Date Granted: September 9, 2008.

Reason Waived: The required tax-exemption ruling from IRS was to be issued, but not in time for the scheduled initial closing of the project.

Contact: Willie Spearmon, Director, Office of Housing Assistance and Grant Administration, Office of Housing, Department of Housing and Urban Development, 451 7th Street, SW., Room 6130, Washington, DC 20410-8000, telephone number 202-798-3000.

• Regulation: 24 CFR 891.410(c).

Project/Activity: Omaha Care Senior Living, Macy, Nebraska—FHA Project Number 103-EE030. The property has been unable to achieve sustaining occupancy. The project owner is requesting permission to admit over-income applicants and lower the age limit to age 55.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: July 7, 2008.

Reason Waived: This regulatory waiver allowed the owner to stabilize the project's current financial status and prevent foreclosure. Waiver of this regulation permitted admission of applicants who meet the definition of low-income, near elderly, enabling them to rent up the 13 vacant units currently existing at the property and develop a waiting list. First priority is to be given to all qualified eligible applicants who meet the Section 202 very low-income guidelines.

Contact: Beverly J. Miller, Director, Office of Asset Management, Office of Housing, Department of Housing and Urban Development, 451 7th Street, SW., Room 6160, Washington, DC 20410-7000, telephone number 202-708-3730.

• Regulation: 24 CFR 891.410(c).

Project/Activity: Cypress Knoll Apartments, Cave City, Arkansas—FHA Project Number 082-EE025. The owner/managing agent has requested waiver of the very low-income and elderly restriction to permit admission of lower-income, near-elderly applicants to alleviate current vacancy problems at the property.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: July 14, 2008.

Reason Waived: This regulatory waiver was granted to assist the property with its current vacancy problems by allowing the admission of near-elderly low-income persons. The project experienced 19% vacancy rate and exhausted cash reserves to support the operation of the property. The owner/managing agent continued to aggressively market the property with local housing authorities and news media without success. Waiving the very low-income and elderly restriction allowed the owner/managing agent flexibility in renting vacant units, thereby allowing the project to operate successfully and achieve full occupancy so that the project will not fail. First priority is to be given to all qualified applicants who meet the Section 202 very low-income guidelines.

Contact: Beverly J. Miller, Director, Office of Asset Management, Office of Housing, Department of Housing and Urban Development, 451 7th Street, SW., Washington, DC 20410-7000, telephone number 202-708-3730.

• Regulation: 24 CFR 891.410(c)

Project/Activity: Maplewood Estates, Stockton, Missouri—FHA Project Number 084-EE061. The project is experiencing difficulty leasing units to the very low-income elderly.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.

Granted by: Brian D. Montgomery, Assistant Secretary for Housing-Federal Housing Commissioner.

Date Granted: July 25, 2008.

Reason Waived: The property had a 41% vacancy rate with no eligible applicants on the waiting list. This waiver allowed the managing agent to lease units to very low-income, near elderly applicants when there are no very low-income elderly applicants on the waiting list. The waiver allowed stabilization of the project's current financial status and prevent foreclosure of the property.

Contact: Beverly J. Miller, Director, Office of Asset Management, Office of Housing, Department of Housing and Urban Development, 451 7th Street, SW., Room 6160, Washington, DC 20410-8000, telephone number 202-708-3730.

• Regulation: 24 CFR 891.410(c).

Project/Activity: Crestview Senior Housing, Gothenburg, Nebraska—FHA Project Number 103-EE010. This property is experiencing difficulty in maintaining full occupancy. The owner/managing agent has requested waiver of the age and income requirements to assist in renting up vacant units.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.

Granted by: Brian D. Montgomery, Assistant Secretary for Housing-Federal Housing Commissioner.

Date Granted: July 30, 2008.

Reason Waived: Waiver of this requirement allowed the owner/managing agent flexibility in renting vacant units. Despite aggressive outreach efforts, 4 units were vacant because of insufficient demand to fill the units with very low-income elderly applicants. Granting this waiver allowed admission of low-income, near elderly applicants thereby stabilizing the project's current financial status and prevent foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Doris Kohler Villa, Phillips, Wisconsin—FHA Project Number 075-EE102. The property is experiencing vacancy problems. The owner has requested waiver of the age and income requirement for this Supportive Housing for the Elderly project.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.

Granted by: Brian D. Montgomery, Assistant Secretary for Housing-Federal Housing Commissioner.

Date Granted: August 5, 2008.

Reason Waived: Waiver of this regulation allowed the owner/managing agent to rent vacant units to applicants who are low-income and near-elderly. The owner/managing agent aggressively marketed the property with local housing authorities, news media, churches and various civic organizations. The property had 5 vacant units and no waiting list. Providing for a waiver of this requirement allowed the project to stabilize its current financial status and prevented foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Pioneer Place IV, Poynette, Wisconsin—FHA Project Number 075-EE021. Pioneer Place is a Supportive Housing for the Elderly project that is experiencing vacancy problems. Waiver of the age and income regulations is needed to improve occupancy and maintenance of the property.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: August 25, 2008.

Reason Waived: Waiver of the regulations governing age and income requirements was granted to permit admission of low-income, near elderly applicants. The owner/managing agent was unable to attract very low-income elderly persons despite aggressive marketing efforts with the local Central Wisconsin Action Council and news media. The property had 6 vacant units and no waiting list. This waiver allowed flexibility in renting units and allowed the project to operate successfully and achieve full occupancy.

Contact: Beverly J. Miller, Director, Office of Asset Management, Office of Housing, Department of Housing and Urban Development, 451 7th Street, SW., Room 6160, Washington, DC 20410-8000, telephone number 202-708-3730.

• Regulation: 24 CFR 891.410(c).

Project/Activity: Ovidio Lamoso Coira, Ciales, Puerto Rico—FHA Project Number 056-EE007. This property is located in a rural area, and is experiencing problems in renting its vacant units.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: September 10, 2008.

Reason Waived: Waiver of the regulation governing age and income requirements was granted to alleviate the vacancy problems existing at the property. The project is located in a rural area and is a high rise with 93 assisted units. Despite the owner's marketing efforts, the level of occupancy remained problematic. There were 10 vacant units with no waiting list but the owner qualified 15 low-income elderly families. This waiver allowed the project to rent to those qualified families, remain viable and to achieve full occupancy allowing the project to operate successfully.

Contact: Beverly J. Miller, Director, Office of Asset Management, Office of Housing, Department of Housing and Urban Development, 451 7th Street, SW., Room 6160, Washington, DC 20410-8000, telephone number 202-708-3730.

• Regulation: 24 CFR 891.410(c).

Project/Activity: Joseph J. Vinopal Villa, Almena, Wisconsin—FHA Project Number 075-EE041. The project is experiencing difficulty leasing units to the very low-income elderly. The project is located in a rural area with few conveniences for senior citizens.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: September 25, 2008.

Reason Waived: Waiver of the regulations governing age and income requirements was granted to permit admission of low-income, near elderly applicants. The owner/managing agent was unable to attract very low-income elderly persons despite aggressive marketing efforts through the local Housing Authority. The property currently has 8 units with 2 vacancies. There was insufficient demand to fill units with very low-income elderly applicants. This waiver allowed flexibility in renting units and allowed the project to achieve full occupancy and operate successfully.

Contact: Beverly J. Miller, Director, Office of Asset Management, Office of Housing, Department of Housing and Urban Development, 451 7th Street, SW., Room 6160, Washington, DC 20410-8000, telephone number 202-708-3730.

• Regulation: 24 CFR 891.410(c).

Project/Activity: Tom Woodman Villa, Richland Center, Wisconsin—FHA Project Number 075-EE126. The project is experiencing difficulty in maintaining sustaining occupancy.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: September 25, 2008.

Reason Waived: Waiver of the regulations governing age and income requirements, to allow the admission of near-elderly low-income persons, was granted to assist the project in reaching full occupancy. The management agent extensively marketed the property through advertising, open houses and through various civic organizations. However, there was little demand for these units, with only 5 of 19 units being occupied since the property opened in August 2007. The project could not continue to operate at this occupancy level. Providing this waiver allowed the owner/managing agent to stabilize the project's current financial status and prevented foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Greenridge Place Apartments, Meeker, Oklahoma—FHA Project Number 117-EE023. The property was unable to maintain sustaining occupancy.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: September 25, 2008.

Reason Waived: Waiver of the regulations governing age and income requirements, to allow the admission of near-elderly low-income persons, was granted to assist the project in obtaining full occupancy. The project is located in a small rural community with a population of 978. There is no grocery store or pharmacy so residents travel approximately 15 miles to Shawnee, Oklahoma, for basic needs. The management agent marketed the property through advertising in neighboring cities to no avail. The property had four vacant units with two very low-income applicants on the waiting list. Granting this waiver allowed the owner flexibility in renting vacant units and to achieve full occupancy so the project would not fail.

Contact: Beverly J. Miller, Director, Office of Asset Management, Office of Housing, Department of Housing and Urban Development, 451 7th Street, SW., Room 6160, Washington, DC 20410-8000, telephone number 202-708-3730.

• Regulation: 24 CFR 891.410(c).

Project/Activity: Syringa Plaza, Burley, Idaho—FHA Project Number 124-EE005. The property is experiencing high vacancy rates.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.”

Granted by: Brian D. Montgomery, Assistant Secretary for Housing-Federal Housing Commissioner.

Date Granted: September 25, 2008.

Reason Waived: Waiver of the regulations governing age and income requirements, to allow the admission of near-elderly low-income persons, was granted to assist the project in obtaining full occupancy. Syringa Plaza conducted extensive marketing outreach, including advertising, letters to churches, city officers, senior centers and the Chamber of Commerce and service area providers for seniors in the county to no avail. The property had 10 vacant units. Providing this waiver allowed the owner/managing agent to stabilize the project's current financial status and prevented foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Main Creek Villa, Conrath, Wisconsin—FHA Project Number 075-EE071. The project is experiencing difficulty leasing units to the very low-income elderly. The project is located in a rural area.

Nature of Requirement: Section 891.410 relates to admission of families to projects for elderly or handicapped families that receive reservations under Section 202 of the Housing Act of 1959, as amended by Section 801 of the National Affordable Housing Act of 1990. Section 891.410(c) limits occupancy to very low-income elderly persons. Section 891.410 relates to admission of families to projects for elderly or handicapped families that receive reservations under Section 202 of the Housing Act of 1959, as amended by Section 801 of the National Affordable Housing Act of 1990. Section 891.410(c) limits occupancy to very low-income elderly persons. Section 891.205 defines elderly as “a household composed of one or more persons at least one of whom is 62 years of age or more at the time of initial occupancy.

Granted by: Brian D. Montgomery, Assistant Secretary for Housing-Federal Housing Commissioner.

Date Granted: September 26, 2008.

Reason Waived: Waiver of the regulations governing age and income requirements, to allow the admission of near-elderly low-income persons, was granted to assist the project in obtaining full occupancy. Despite aggressive marketing efforts, the property continued to experience vacancy issues. The market analysis indicated there was insufficient demand to fill these units. Providing waiver of this regulation assisted the owner/managing agent in leasing vacant units and to achieve full occupancy so the project would not fail.

Contact: Beverly J. Miller, Director, Office of Asset Management, Office of Housing, Department of Housing and Urban Development, 451 7th Street, SW., Room 6160, Washington, DC 20410-8000, telephone number 202-708-3730.

• Regulation: 24 CFR 891.805.

Project/Activity: Newport Senior Housing, Newport, VT, Project Number: 024-EE101/VT36-S061-002.

Nature of Requirement: Section 891.805 requires that the general partner in the for-profit limitied partnership be a Private Nonprofit Organization.

Granted by: Brian D. Montgomery, Assistant Secretary for Housing-Federal Housing Commissioner.

Date Granted: July 8, 2008.

Reason Waived: The proposed sole nonprofit general partner of the for-profit mixed finance owner met the statutory definition.

Contact: Willie Spearmon, Director, Office of Housing Assistance and Grant Administration, Office of Housing, Department of Housing and Urban Development, 451 7th Street, SW., Room 6130, Washington, DC 20410-8000, telephone number 202-798-3000.

III. Regulatory Waivers Granted by the Office of Public and Indian Housing

For further information about the following regulatory waivers, please see the name of the contact person that immediately follows the description of the waiver granted.

• Regulation: 24 CFR 5.801

Project/Activity: Miami-Dade Housing Authority, (FL005), Miami, FL.

Nature of Requirement: Section 5.801 of HUD's regulations in 24 CFR part 5 establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: July 16, 2008.

Reason Waived: The HA requested a waiver of its audited financial submission due date for the FYE September 30, 2007. The HA submitted that one of the terms of the settlement agreement between the Department and the HA was that the FY 2006 audit be re-performed. There had been a number of issues with the FY 2006 re-audits, which had only delayed the completion of the audit, but also delayed the completion of the FY 2007 audit. The waiver granted an extension to the audit deadline from June 30, 2008 to September 30, 2008.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801

Project/Activity: Housing Authority of the City of Tallassee, (AL172), Tallassee, AL.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: July 16, 2008.

Reason Waived: The HA requested a waiver of its audited financial submission due date for FYE June 30, 2007. The HA submitted that its audited financial submission was twice rejected by REAC, and that the HA made the first correction and that the second rejection e-mail was not received by the HA. Consequently, the electronic submission was not received by REAC by the resubmission due date that resulted in the HA's receiving a Late Presumptive Failure score of zero. The waiver granted the additional time to submit its audited financial data.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: City of Platteville Housing Division, (WI208), Platteville, WI.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: July 21, 2008.

Reason Waived: The HA, a section 8 only entity, requested a waiver of the audited financial data reporting requirements due date for FYE September 30, 2007. The HA submitted that the City of Platteville's (Primary Government) FYE is December 31, 2007, and the HA's (Platteville Housing Division) FYE is September 30, 2007. The different FYEs resulted in a difference between the audited due dates. The waiver granted the HA to submit the audited data as soon as it is completed by the City of Platteville's Independent Accountant but no later than September 30, 2008. The HA was advised to contact their field office to change their FYE to coincide with the FYE of the Primary Government (City of Platteville).

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project /Activity: Housing Authority of Travis County, (TX480), Austin, TX.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: July 21, 2008.

Reason Waived: The HA requested a waiver of its audited financial submission due date for FYE June 30, 2007. The HA submitted that its audited financial submission was twice rejected by the REAC, and that the corrections were made for the first rejection. For the second rejection, corrections were made, however, the HA failed to “click” the submit button. As a result, the submission was not electronically submitted to the REAC by the resubmission due date and the HA received a Late Presumptive Failure (LPF) score of zero. The HA was granted a waiver of the resubmission due date. Additionally, the REAC's records indicate that the FY's 2005 and 2006 audited financial submissions have not been completed. The HA was advised to submit FYE 2005 and 2006 audited financial information within 30 days of receipt of the waiver letter.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: Fort Stockton Housing Authority, (TX500), Fort Stockton, TX.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: August 4, 2008.

Reason Waived: The HA, a section 8 only entity, requested additional time to submit its FYE September 30, 2007, audited financial submission. The HA submitted that the City of Fort Stockton's (Primary Government) auditor resigned prior to the audit being completed. The city retained the services of another firm. The HA was granted the waiver and was required to submit its audited financial date for FYE September 30, 2007, as soon as it is completed by the City of Fort Stockton's Independent Public Accountant.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: Lancaster Housing Agency, (TX437), Lancaster, TX.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: August 6, 2008.

Reason Waived: The HA, a Section 8 only entity, requested additional time to submit their FYE September 30, 2007, audited data. The HA submitted that it recently discovered evidence of fraudulent activity by a former employee that impacted the financial statements. The HA worked with local law enforcement and HUD's Office of Inspector General to quantify the loss and properly adjust the financial statements. The HA was granted a waiver that allowed it to submit the audited financial data as soon as the fraud investigation is completed.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: Arizona Department of Housing, (AZ901), Phoenix, AZ.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: August 13, 2008.

Reason Waived: The HA requested additional time to submit their FYE June 30, 2007, audit. Specifically, the HA request dated April 25, 2008, was approved as a result of a Single Audit extension to June 30, 2008, from the United States Department of Health and Human Services, the cognizant audit agency for the State of Arizona. The State of Arizona subsequently received another extension until August 31, 2008, from the cognizant audit agency. The HA was granted the waiver to submit its audited financial data for FYE June 30, 2007, by no later than September 12, 2008.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: Rockville Center Housing Authority, (NY100), Rockville Center, NY.

Nature of Requirement: The regulation establishes certain reporting compliance dates. The audited financial statements are required to be submitted to the Real Estate Assessment Center (REAC) no later than nine months after the fiscal year end (FYE) of the housing authority (HA), in accordance with the Single Audit Act and OMB Circular A-133.

Granted by: Paula O. Blunt, General Deputy Assistant Secretary for Public and Indian Housing.

Date Granted: September 18, 2008.

Reason Waived: The HA submitted its audited financial submission for FYE September 30, 2007, and it was rejected by REAC once on May 7, 2008, and again on May 29, 2008. The HA advised that the corrections were made on May 13, 2008, for the first rejection and that a minor rejection issue was overlooked and not corrected. The HA's financial submission was again rejected and the HA failed to make the necessary correction by the due date. The HA received a Late Presumptive Failure (LPF) score of zero. The waiver granted the HA a request to invalidate the LPF and resubmission of the audited financial data.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.20

Project/Activity: Housing Authority of the City of Fort Lauderdale, (FL010), Fort Lauderdale, FL.

Nature of Requirement: The objective of 24 CFR 902.20 is to determine whether a housing authority (HA) is meeting the standard of decent, safe, sanitary, and in good repair. The Real Estate Assessment Center (REAC) provides for an independent physical inspection of a HA's property of properties that includes a statistically valid sample of the units.

Granted by: Paula O. Blunt, General Deputy Assistant Secretary for Public and Indian Housing.

Date Granted: July 1, 2008.

Reason Waived: The HA was granted a waiver of the physical inspection because of a fire that occurred on March 10, 2008, that resulted in damage to units, and unit doors and extensive water damage. Because the circumstances surrounding the waiver request were unusual and beyond the control of the HA, the HA was waived from PASS requirements for fiscal year end December 31, 2007.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.20 and 24 CFR 902.60 (d) and (e)

Project/Activity: Housing Authority of the City of Bay St. Louis, (MS064), Bay St. Louis, MS.

Nature of Requirement: The objective is to determine whether a housing authority (HA) is meeting the standard of decent, safe, sanitary, and in good repair. The Real Estate Assessment Center (REAC) provides for an independent physical inspection of a HA's property of properties that includes a statistically valid sample of the units. Management operations certification is required to be submitted within two months after the public housing agency fiscal year end. The Resident Service and Satisfaction Indicator is performed through the use of a survey. The HA is also responsible for completing the implementation plan activities and developing a follow-up plan.

Granted by: Paula O. Blunt, General Deputy Assistant Secretary for Public and Indian Housing.

Date Granted: July 2, 2008.

Reason Waived: The Housing Authority of the City of Bay St. Louis suffered catastrophic losses as a result of Hurricane Katrina resulting in 100% loss of its housing stock. The losses had a devastating effect on the stability of the HA. The circumstances surrounding the waiver of these PHAS indicators for fiscal year ending December 31, 2008, were beyond the HA control.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.20, and 24 CFR 902.60(d) and (e).

Project/Activity: Delray Beach Housing Authority, (FL083), Delray Beach, FL.

Nature of Requirement: The objective is to determine whether a housing authority (HA) is meeting the standard of decent, safe, sanitary, and in good repair. The Real Estate Assessment Center (REAC) provides for an independent physical inspection of a HA's property of properties that includes a statistically valid sample of the units. Management operations certification is required to be submitted within two months after the public housing agency fiscal year end. The Resident Service and Satisfaction Indicator is performed through the use of a survey. The HA is also responsible for completing the implementation plan activities and developing a follow-up plan.

Granted by: Paula O. Blunt, General Deputy Assistant Secretary for Public and Indian Housing.

Date Granted: September 26, 2008.

Reason Waived: The Delray Beach Housing Authority (HA) requested and was granted a waiver of the three Public Housing Assessment System (PHAS) Indicators for fiscal years ending March 31, 2007, and March 31, 2008, because of the destruction caused by Hurricane Wilma in October 2005 to the Carver Estates development. The Carver Estates was the only development in the HA's inventory and it has been vacant since November 2005. The residents were issued Tenant Protection Vouchers and were relocated in accordance with the Uniform Relocation Act. The units are expected to be totally demolished.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.23(a); 24 CFR 902.43; and 24 CFR 902.52.

Project/Activity: Waveland Housing Authority, (MS101), Waveland, MS.

Nature of Requirement: The referenced regulations establish requirements for (1) annual inspections (2) annual certification of management operations and (3) resident satisfaction surveys.

Granted by: Paula O. Blunt, General Deputy Assistant Secretary for Public and Indian Housing.

Date Granted: September 3, 2008.

Reason Waived: The waiver exempted the HA from physical inspections and submission of the management operations certification and resident satisfaction survey under the Public Housing Assessment System (PHAS) for fiscal year ending June 30, 2008, because the HA suffered catastrophic losses as result of Hurricane Katrina. The losses included 100% loss of housing stock. Further, the losses had a devastating effect on the stability of the HA that precludes the HA from meeting the PHAS requirements. The circumstances surrounding the waiver of these PHAS indicators were beyond the HA control.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.60(d) and (e).

Project/Activity: West Palm Beach Housing Authority, (FL009), West Palm Beach, FL.

Nature of Requirement: The Management operations certification is required to be submitted to the Real Estate Assessment Center (REAC) within two months after the public housing agency fiscal year end (FYE). The Resident Service and Satisfaction Indicator is performed through the use of a survey. The Housing Authority (HA) is also responsible for completing the implementation plan activities and developing a follow-up plan.

Granted by: Paula O. Blunt, General Deputy Assistant Secretary for Public and Indian Housing.

Date Granted: July 1, 2008.

Reason Waived: On July 26, 2007, the West Palm Beach Housing Authority received a waiver from submitting their management operations certification and resident satisfaction survey to the REAC for FYE March 31, 2007, in order to enable the HA to have more resources to concentrate on organizational, procedural and software changes to convert to asset management. This waiver granted an extension for FYE March 31, 2008.

Contact: Gregory A. Byrne, Director, Financial Management Division, Real Estate Assessment Center, Office of Public and Indian Housing, Department of Housing and Urban Development, 550 12th Street, SW., Suite 100, Washington, DC 20410-5000, telephone number 202-475-8632.

• Regulation: 24 CFR 906.15

Project/Activity: Montgomery County Housing Authority (MCHA), Norristown, PA purchase and renovation of an administrative office building using homeownership proceeds.

Nature of Requirement: Section 906.15 of HUD's regulations in 24 CFR part 906 provides that sales proceeds may be used in connection with low-income families at the discretion of the PHA and as stated in the HUD approved homeownership plan.

Granted by: Paula O. Blunt, General Deputy Assistant Secretary for Public and Indian Housing.

Date Granted: July 15, 2008.

Reason Waived: MCHA requested a waiver of the applicable federal regulation to the extent that HUD determined that regulation prohibits MCHA from using homeownership proceeds to acquire and renovate an administrative office building. In its approved homeownership plan, MCHA did not include the purchase and renovation of an administrative office building as a use of proceeds. HUD initially found that MCHA's use of proceeds to purchase and renovate the administrative office building was not a permissible use of proceeds under 24 CFR 906.15. HUD subsequently determined that good cause exists based on accessibility, coordination of services and cost savings to allow MCHA to use proceeds from its approved homeownership plan to purchase, renovate, and now operate an administrative office building.

Contact: Dominique Blom, Deputy Assistant Secretary for the Office of Public Housing Investments, Office of Public and Indian Housing, Department of Housing and Urban Development, 451 7th Street, SW., Room 4130, Washington, DC 20140-5000, telephone number 202-402-4181.

• Regulation: 24 CFR 941.606(n)(1)(ii)(B).

Project/Activity: Housing Authority of Fulton County's (HAFC's), Georgia, Mixed-Finance Rental Project.

Nature of Requirement: Section 941.606(n)(1)(ii)(B) of HUD's regulation in 24 CFR part 941 states “that if the partner and/or owner entity (or any other entity with an identity of interests with such parties) wants to serve as the general contractor for the project or development, it may award itself the construction contract only if it can demonstrate to HUD's satisfaction that its bid is the lowest bid submitted in response to a public request for bids.”

Granted by: Paula O. Blunt, General Deputy Assistant Secretary for Public and Indian Housing

Date Granted: July 3, 2008.

Reason Waived: HAFC submitted a certification by an independent third-party construction cost estimator and HUD reviewed the independent cost estimates and related budgets. HAFC demonstrated that the construction costs are reasonable and are within applicable HUD cost limits.

Contact: Dominique Blom, Deputy Assistant Secretary for the Office of Public Housing Investments, Office of Public and Indian Housing, Department of Housing and Urban Development, 451 7th Street, SW., Room 4130, Washington, DC 20140-5000, telephone number 202-402-4181.

• Regulation: 24 CFR 941.606(n)(l)(ii)(B).

Project/Activity: Detroit Housing Commission (DHC), MI, Gardenview Estates, Phase I Gardenview Estates HOPE VI.

Nature of Requirement: Section 941.606(n)(1)(ii)(B) of HUD's regulation in 24 CFR part 941 states “that if the partner and/or owner entity (or any other entity with an identity of interests with such parties) wants to serve as the general contractor for the project or development, it may award itself the construction contract only if it can demonstrate to HUD's satisfaction that its bid is the lowest bid submitted in response to a public request for bids.”

Granted by: Paula O. Blunt, General Deputy Assistant Secretary for Public and Indian Housing.

Date Granted: September 11, 2008.

Reason Waived: DHC procured Norstar Development USA to redevelop the former Herman Gardens public housing. On June 22, 2007, Norstar Building Corporation and O'Brien Construction Company, Inc. entered into a Cooperation Agreement. As O'Brien Construction costs were within range of that of the independent cost estimates, HUD's condition was satisfied.

Contact: Dominique Blom, Deputy Assistant Secretary for the Office of Public Housing Investments, Office of Public and Indian Housing, Department of Housing and Urban Development, 451 7th Street, SW., Room 4130, Washington, DC 20140-5000, telephone number 202 402-4181.

• Regulation: 24 CFR 941.606(n)(l)(ii)(B).

Project/Activity: San Antonio Housing Authority (SAHA), TX, Victoria Courts, City View Apartments, Phase IIIA. HOPE VI grant:

Nature of Requirement: Section 941.606(n)(1)(ii)(B) of HUD's regulation in 24 CFR part 941 states “that if the partner and/or owner entity (or any other entity with an identity of interests with such parties) wants to serve as the general contractor for the project or development, it may award itself the construction contract only if it can demonstrate to HUD's satisfaction that its bid is the lowest bid submitted in response to a public request for bids.”

Granted by: Paula O. Blunt, General Assistant Deputy Secretary for Public and Indian Housing.

Date Granted: September 17, 2008.

Reason Waived: The San Antonio Housing Authority (SAHA) procured Carleton Development as the master developer for the City View Apartments site. Carleton's construction costs were below independent cost estimates, satisfying HUD's condition.

Contact: Dominique Blom, Deputy Assistant Secretary for the Office of Public Housing Investments, Office of Public and Indian Housing, Department of Housing and Urban Development, 451 7th Street, SW., Room 4130, Washington, DC 20140-5000, telephone number (202) 402-4181.

• Regulation: 24 CFR 982.503(d) and 982.505(c)(3).

Project/Activity: Adams Metropolitan Housing Authority (AMHA), Adams, OH. The AMHA requested a waiver of payment standard (PS) requirements.

Nature of Requirement: Section 982.503(d) of HUD regulations in 24 CFR part 982 provides that HUD may consider and approve a PHA's establishment of a payment standard lower than the basic range, but that HUD will not approve a lower payment standard if the family share for more than 40 percent of participants in the PHA's HCV program exceeds 30 percent of adjusted monthly income. Section 982.505(c)(3) provides that if the amount on the payment standard (PS) schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 11, 2008.

Reason Waived: The waiver of these regulatory sections was granted because these cost-saving measures enabled the AMHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.503(d) and 982.505(c)(3).

Project Activity: Dodge County Housing Authority (DCHA), Dodge County, WI. The DCHA requested a waiver of payment standard (PS) requirements.

Nature of Requirement: Section 982.503(d) of HUD regulations in 24 CFR part 982 provides that HUD may consider and approve a PHA's establishment of a payment standard lower than the basic range, but that HUD will not approve a lower payment standard if the family share for more than 40 percent of participants in the PHA's HCV program exceeds 30 percent of adjusted monthly income. Section 982.505(c)(3) provides that if the amount on the payment standard (PS) schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 11, 2008.

Reason Waived: The waiver of these regulatory sections was granted because these cost-saving measures enabled the DCHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: Wadena Housing and Redevelopment Authority (WHRA), Wadena, MN. The WHRA requested a waiver of payment standard (PS) requirements.

Nature of Requirement: Section 982.505(c)(3) of HUD's regulations in 24 CFR part 982 provides that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 3, 2008.

Reason Waived: The waiver was granted because this cost-saving measure enabled the WHRA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: City of Virginia Beach Department of Housing and Neighborhood Preservation (CVB), Virginia Beach, VA. The CVB requested a waiver of payment standard (PS) requirements.

Nature of Requirement: Section 982.505(c)(3) of HUD's regulations in 24 CFR part 982 provides that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 11, 2008.

Reason Waived: The waiver was granted because this cost-saving measure would enable the CVB to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: Shelby Metropolitan Housing Authority (SMHA), Shelby, OH. The SMHA requested a waiver of payment standard (PS) requirements.

Nature of Requirement: Section 982.505(c)(3) of HUD's regulations in 24 CFR part 982 provides that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 14, 2008.

Reason Waived: The waiver was granted because this cost-saving measure would enable the SMHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: Todd County Housing and Redevelopment Agency (TCHRA), Todd County, MN. The TCHRA requested a waiver of payment standard (PS) requirements.

Nature of Requirement: Section 982.505(c)(3) of HUD's regulations in 24 CFR part 982 provides that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 6, 2008.

Reason Waived: The waiver was granted because this cost-saving measure enabled the TCHRA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: Housing Authority of the County of DeKalb (HACD), DeKalb, IL. The HACD requested a waiver of payment standard (PS) requirements.

Nature of Requirement: Section 982.505(c)(3) of HUD's regulations in 24 CFR part 982 provides that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: September 4, 2008.

Reason Waived: The waiver was granted because this cost-saving measure enabled the HACD to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the County of Los Angeles (HACoLA), Los Angeles County, CA. The HACoLA requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: July 7, 2008.

Reason Waived: The waiver was granted because the applicant, who is a person with severe depression and obsessive-compulsive disorder, needed to remain in her current unit to avoid exacerbating her illnesses. To provide a reasonable accommodation so that this applicant would pay no more than 40 percent of his adjusted income toward the family share, the HACoLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Stockbridge Housing Authority (SHA), Stockbridge, MA. The SHA requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: July 21, 2008.

Reason Waived: The waiver was granted because the applicant, who is a person recovering from drug and alcohol addiction, required a room in a supportive housing group home that provided a clean and sober environment with supportive services. To provide a reasonable accommodation so that this participant would pay no more than 40 percent of his adjusted income toward the family share, the SHA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the City of Los Angeles (HACLA), Los Angeles, CA. The HACLA requested a waiver regarding exception payment standards so that it could provide a reasonable accommodation to persons with disabilities.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: August 21, 2008.

Reason Waived: The waiver was granted because the participant, who is an elderly person with cardiovascular and vision disabilities, would have significant hardship if required to move. She was paying approximately 85 percent of the family's adjusted income toward her share of the rent as a result of a large rent increase. To provide a reasonable accommodation so that this participant would pay no more than 40 percent of her adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: San Francisco Housing Authority (SFHA), San Francisco, CA. The SFHA requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: August 21, 2008.

Reason Waived: The waiver was granted because the applicant is a disabled person who required a wheelchair-accessible unit and after a thorough housing search was only able to locate a unit that required an exception payment standard so that the applicant would pay no more than 40 percent of her adjusted income toward the family share. The SFHA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the City of Los Angeles (HACLA), Los Angeles, CA. The HACLA requested a waiver regarding exception payment standards so that it could provide a reasonable accommodation to persons with disabilities.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: August 21, 2008.

Reason Waived: The waiver was granted because the participant, who is an elderly person with cardiovascular and vision disabilities, would have significant hardship if required to move. She was paying approximately 85 percent of the family's adjusted income toward her share of the rent as a result of a large rent increase. To provide a reasonable accommodation so that this participant would pay no more than 40 percent of her adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the City of Los Angeles (HACLA), Los Angeles, CA. The HACLA requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: August 26, 2008.

Reason Waived: The waiver was granted because the participant, who is an elderly person with multiple medical problems, needed to remain in her current unit to be near her physician and due to the stress that moving to another unit would present. She was also paying approximately 75 percent of the family's adjusted income toward her share of the rent as a result of a large rent increase. To provide a reasonable accommodation so that this participant would pay no more than 40 percent of her adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the County of Umatilla (HACU), Sioux Falls Housing and Redevelopment Commission (SFHRC), Umatilla County, Oregon. The HACU requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 5, 2008.

Reason Waived: The waiver was granted because the applicant, who suffers from post traumatic stress disorder, needed to remain in his unit in order to avoid the stress of moving. To provide a reasonable accommodation so that this participant would pay no more than 40 percent of his adjusted income toward the family share, the HACU was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Alaska Housing Finance Corporation (AHFC), Anchorage, AK. The AHFC requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 8, 2008.

Reason Waived: The waiver was granted because the participant, who is a disabled person with multiple chemical sensitivity syndrome, needs to remain in her current unit which is a two-bedroom house with private laundry facilities. The participant was paying approximately 57 percent of the family's adjusted income toward her share of the rent. To provide a reasonable accommodation so that this participant would pay no more than 40 percent of her adjusted income toward the family share, the AHFC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Sioux Falls Housing and Redevelopment Commission (SFHRC), Sioux Falls, South Dakota. The SRHRC requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 9, 2008.

Reason Waived: The waiver was granted because the participant is a disabled person who required a wheelchair-accessible unit that is in close proximity to the medical facility where she receives care. To provide a reasonable accommodation so that this participant would pay no more than 40 percent of her adjusted income toward the family share, the SFHRC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Alaska Housing Finance Corporation (AHFC), Kodiak Island, AK. The AHFC requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 11, 2008.

Reason Waived: The waiver was granted because the applicant is a disabled person requiring a wheelchair-accessible unit close to family. A thorough housing search located a unit that required an exception payment standard so that the applicant would pay no more than 40 percent of adjusted income toward the family share. The AHFC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Fall River Housing Authority (FRHA), Fall River, MA. The FRHA requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 11, 2008.

Reason Waived: The waiver was granted because the applicant is a disabled person who required a single-family home that required an exception payment standard so that the she would pay no more than 40 percent of her adjusted income toward the family share. The FRHA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the City of Los Angeles (HACLA), Los Angeles, CA. The HACLA requested a waiver regarding exception payment standards.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 11, 2008.

Reason Waived: The waiver was granted because the participant, who is an elderly person with multiple significant medical problems and needs to remain near her various physicians and hospital, was paying approximately 96 percent of the family's adjusted income toward her share of the rent as a result of a large rent increase. To provide a reasonable accommodation so that this participant would pay no more than 40 percent of her adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: Fort Walton Beach Housing Authority (FWBHA), Fort Walton Beach, FL. The FWBHA requested a waiver of payment standard (PS) requirements.

Nature of Requirement: Section 982.505(d) of HUD's regulations in 24 CFR part 982 provides that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: September 25, 2008.

Reason Waived: The waiver was granted because this cost-saving measure enabled the FWBHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 983.53(c) and 983.259(a).

Project/Activity: St. Louis Housing Authority (SLHA). St. Louis, MO. The SLHA requested waivers of project-based voucher (PBV) regulations to allow members of the Carr Square Tenant Management Corporation (CSTMC) to remain in their former public housing units.

Nature of Requirement: Section 983.53(c) of HUD's regulations in 24 CFR part 983 provides that the PHA may not attach or pay PBV assistance for a unit occupied by an owner of the housing. Section 983.259(a) generally states that families must be terminated if they occupy overcrowded, under-occupied or accessible units and don't accept the public housing agency's offer of continued housing assistance (e.g., tenant-based voucher assistance).

Granted by: Paula O. Blunt, General Deputy Assistant Secretary for Public and Indian Housing.

Date Granted: August 13, 2008.

Reasons Waived: A waiver of the first regulation was granted since the CSTMC is a 501(c)(3) non-profit entity and none of the individual members of the CSTMC (who are considered principals and/or interested parties) will have any ownership interest in the PBV units. The second regulation was also waived since many of the residents aged in place and appropriate-sized units were not available in the project for some of them. In addition, commitments were made under the HOPE I grant to allow these remaining members of tenant families to remain in the project.

Contact: Danielle Bastarache, Director, Housing Voucher Management and Operations Division, Office of Public Housing and Voucher Programs, Office of Public and Indian Housing, Department of Housing and Urban Development, 451 7th Street, SW., Room 4210, Washington, DC 20410-5000, telephone number 202-708-0477.

• Regulation: 24 CFR 990.185(a).

Project/Activity: Washington County Housing Authority (WCHA), Washington County, Pennsylvania.

Nature of Requirement: The Energy Policy Act of 2005 amended section 9(e)(2)(C) of the Housing Act of 1937 by changing the contract period from 12 to 20 years. At the time of the request for a waiver, HUD's regulation in 24 CFR 990.185(a) had not yet been amended to conform to the statutory change and continued to present a maximum period of 12 years.

Granted by: Paula O. Blunt, General Deputy Assistant Secretary for Public and Indian Housing.

Date Granted: July 7, 2008.

Reason Waived: The WCHA was undertaking an energy project and anticipated energy conservation measures whose life cycle expectations and costs would exceed the 12-year regulatory limitation in 24 CFR 990.185(a). Based upon the anticipated savings and benefits to WCHA and its residents, the waiver granted a longer payback period, contingent on HUD's provisions, including additional information and technical activity requirements. WCHA agreed to comply with all of HUD's provisions for the waiver to be effective.

Contact: Nicole Faison, Director, Office of Public Housing Programs, Office of Public and Indian Housing, Department of Housing and Urban Development, 451 7th Street, SW., Room 4226, Washington, DC 20410-5000, telephone number 202-708-0744.

• Regulation: 24 CFR 990.185(a).

Project/Activity: Lynn Housing Authority and Neighborhood Development (LHAND), Lynn, Massachusetts.

Nature of Requirement: The Energy Policy Act of 2005 amended section 9(e)(2)(C) of the Housing Act of 1937 by changing the contract period from 12 to 20 years. At the time of the request for a waiver, HUD's regulation in 24 CFR 990.185(a) had not yet been amended to conform to the statutory change and continued to present a maximum period of 12 years.

Granted by: Paula O. Blunt, General Deputy Assistant Secretary for Public and Indian housing.

Date Granted: July 31, 2008.

Reason Waived: The LHAND is undertaking an energy project and anticipates energy conservation measures whose life cycle expectations and costs will exceed the 12-year regulatory limitation in 24 CFR 990.185(a). Based upon the anticipated savings and benefits to LHAND and its residents, the waiver grants a longer payback period, contingent on HUD's provisions, including additional information and technical activity requirements. LHAND must comply with all of HUD's provisions for the waiver to be effective.

Contact: Nicole Faison, Director, Office of Public Housing Programs, Office of Public and Indian Housing, Department of Housing and Urban Development, 451 7th Street, SW., Room 4226, Washington, DC 20410-5000, telephone number 202-708-0744

• Regulation: 24 CFR 990.185(a).

Project/Activity: Kingsport Housing and Redevelopment Authority, (KHRA) Kingsport, Tennessee.

Nature of Requirement: The Energy Policy Act of 2005 amended section 9(e)(2)(C) of the Housing Act of 1937 by changing the contract period from 12 to 20 years. At the time of the request for a waiver, HUD's regulation in 24 CFR 990.185(a) had not yet been amended to conform to the statutory change and continued to present a maximum period of 12 years.

Granted by: Paula O. Blunt, General Deputy Assistant Secretary for Public and Indian Housing.

Date Granted: September 5, 2008.

Reason Waived: The KHRA was undertaking an energy project and anticipated energy conservation measures whose life cycle expectations and costs will exceed the 12-year regulatory limitation in 24 CFR 990.185(a). Based upon the anticipated savings and benefits to KHRA and its residents, the waiver granted a longer payback period, contingent on HUD's provisions, including additional information and technical activity requirements. KHRA agreed to comply with all of HUD's provisions for the waiver to be effective.

Contact: Nicole Faison, Director, Office of Public Housing Programs, Office of Public and Indian Housing, Department of Housing and Urban Development, 451 7th Street, SW., Room 4226, Washington, DC 20410-5000, telephone number 202-708-0744.

[FR Doc. E8-29308 Filed 12-11-08; 8:45 am]

BILLING CODE 4210-67-P